DEPARTMENT OF LABOR

Employment and Training Administration

[TA-W-83,199; TA-W-83,199A; TA-W-83,199B]

Northeast Utilities Service Company; Information Technology Division; Including On-Site Leased Workers From IBM, Infosys, the Ergonomic Group Inc., PCC Technology Group, BGI Technologies and Guidant; Berlin, Connecticut; Northeast Utilities Service Company; Information Technology Division; Including On-Site Leased Workers From IBM, Infosys, the Ergonomic Group Inc., PCC Technology Group, BGI Technologies and Guidant; Westwood, Massachusetts; Northeast Utilities Service Company; Information Technology Division; Including On-Site Leased Workers From IBM, Infosys, the Ergonomic Group Inc., PCC Technology Group, BGI Technologies and Guidant; Manchester, New Hampshire; Amended Certification Regarding Eligibility To Apply for Worker Adjustment Assistance

In accordance with Section 223 of the Trade Act of 1974, as amended (“Act”), 19 U.S.C. 2273, the Department of Labor issued a Certification of Eligibility to Apply for Worker Adjustment Assistance on December 9, 2013, applicable to workers of Northeast Utilities Service Company, Information Technology Division, including on-site leased workers from IBM, Infosys, The Ergonomic Group Inc., PCC Technology Group, CGI Technologies and Guidant, Berlin, Connecticut. The Department's notice of determination was published in the Federal Register on January 10, 2014 (79 FR 1893).

At the request of the state workforce office, the Department reviewed the certification for workers of the subject firm. The workers were engaged in the supply of information technology services.

The company reports that workers at affiliated facilities in Westwood, Massachusetts and Manchester, New Hampshire were also separated due to an acquisition of information technology services from a foreign country. The worker group includes on-site leased workers from IBM, Infosys, The Ergonomic Group Inc., PCC Technology Group, CGI Technologies and Guidant.

Based on these findings, the Department is amending this certification to include workers located at Northeast Utilities Service Company, Information Technology Division, including on-site leased workers from IBM, Infosys, The Ergonomic Group Inc., PCC Technology Group, CGI Technologies and Guidant, Westwood, Massachusetts and Manchester, New Hampshire.

The amended notice applicable to TA-W-83,199 is hereby issued as follows:

“All workers of Northeast Utilities Service Company, Information Technology Division, including on-site leased workers from IBM, Infosys, The Ergonomic Group Inc., PCC Technology Group, CGI Technologies and Guidant, Berlin, Connecticut (TA-W-83,199), Northeast Utilities Service Company, Information Technology Division, including on-site leased workers from IBM, Infosys, The Ergonomic Group Inc., PCC Technology Group, CGI Technologies and Guidant, Westwood, Massachusetts (TA-W-83,199A) and Northeast Utilities Service Company, Information Technology Division, including on-site leased workers from IBM, Infosys, The Ergonomic Group Inc., PCC Technology Group, CGI Technologies and Guidant, Manchester, New Hampshire (TA-W-83,199B), who became totally or partially separated from employment on or after November 5, 2012, through December 9, 2015, and all workers in the group threatened with total or partial separation from employment on the date of certification through two years from the date of certification, are eligible to apply for adjustment assistance under Chapter 2 of Title II of the Trade Act of 1974, as amended.”

Signed in Washington, DC this 25th day of March 2014.
Michael W. Jaffe,
Certifying Officer, Office of Trade Adjustment Assistance.

[FR Doc. 2014-07747 Filed 4-7-14; 8:45 am]

BILLING CODE 4510-FN-P